DEPARTMENT OF HOMELAND SECURITY

8 CFR Part 274a

Seizure and Forfeiture of Conveyances

CFR Correction

In Title 8 of the Code of Federal Regulations, revised as of Jan. 1, 2004, on page 656, § 274a.12 is corrected in paragraph (c)(5) by removing text beginning with “Ill(6)” to the end of the paragraph.

[FR Doc. 04-55513 Filed 6-22-04; 8:45 am]

BILLING CODE 1505-01-D